DEPARTMENT OF ENERGY

Federal Energy Regulatory Commission

[Docket Nos. PR04-15-000, PR04-16-000, PR02-10-005, and PR05-3-000]

Enogex Inc.; Notice of Technical Conference

May 27, 2005.

Take notice that a technical conference will be held on Tuesday, June 7, 2005, and Wednesday, June 8, 2005, at 10 a.m. (EST), in a room to be designated at the Federal Energy Regulatory Commission, 888 First Street NE., Washington, DC 20426.

The technical conference will deal with issues raised in the referenced proceedings (Docket Nos. PR04-15-000, PR04-16-000, PR02-10-005 and PR05-3-000). The purpose of the conference will be to discuss the filings made by Enogex including a range of cost of service issues associated with Enogex's three year general rate filing. The technical conference will also address responses to those filings, including offers of settlement.

FERC conferences are accessible under section 508 of the Rehabilitation Act of 1973. For accessibility accommodations please send an e-mail to accessibility@ferc.gov or call toll free (866) 208-3372 (voice) or 202-208-1659 (TTY), or send a FAX to 202-208-2106 with the required accommodations.

All interested parties and staff are permitted to attend. For further information please contact Eric Winterbauer at (202) 502-8329 or e-mail eric.winterbauer@ferc.gov.

Linda Mitry,
Deputy Secretary.

[FR Doc. E5-2821 Filed 6-2-05; 8:45 am]

BILLING CODE 6717-01-P